ENVIRONMENTAL PROTECTION AGENCY

[FRL-7654-8]

Agency Programs Subject to Executive Order 12372 and Section 204 of the Demonstration Cities and Metropolitan Development Act

AGENCY: Environmental Protection Agency.

ACTION: Notice.

SUMMARY: The Environmental Protection Agency (EPA) is publishing an updated list of programs which States may choose to review under their official Executive Order 12372 (Intergovernmental Review of Federal Programs) process and under section 204 of the Demonstration Cities and Metropolitan Development Act. This notice announcing the list of EPA programs and activities subject to intergovernmental review is required under 40 CFR 29.3.

DATES: This list is effective April 2004.

FOR FURTHER INFORMATION CONTACT: Marla Sheppard, 202-564-5954.

SUPPLEMENTARY INFORMATION: EPA published a notice (86 FR 26647, Nov. 26, 1986) in the Federal Register which listed EPA programs subject to review under Executive Order 12372 and section 204 of the Demonstration Cities and Metropolitan Development Act. The following list provides a more current catalogue of EPA programs and activities which States may choose to review under their official Executive Order 12372 process. Programs which may also be subject to review under section 204 of the Demonstration Cities and Metropolitan Development Act are identified with an asterisk (*). Executive Order 12372 exempts tribal programs from intergovernmental review. Accordingly, tribal initiatives within EPA programs are excluded from the intergovernmental review process. For additional information about the following EPA programs, please visit the Catalog of Federal Domestic Assistance (CFDA) Web site at http://www.cfda.gov or http://www.epa.gov/ogd/grants/cfda.htm.

Programs Subject to Executive Order 12372 and Section 204 of the Demonstration Cities and Metropolitan Development Act
CFDA No. | Program Title
66.001* | Air Pollution Control Program Support.
66.032 | State Indoor Radon Grants.
66.033 | Ozone Transport.
66.034 | Surveys, Studies, Investigations, Demonstrations and Special Purpose Activities relating to the Clean Air Act.
66.305 | Compliance Assistance—Support for Services to the Regulated Community and Other Assistance Providers.
66.418* | Construction Grants for Wastewater Treatment Works.
66.419* | Water Pollution Control State and Interstate Program Support.
66.424 | Surveys, Studies, Demonstrations and Special Purpose Grants—Section 1442 of the Safe Drinking Water Act.
66.432 | State Public Water System Supervision.
66.433* | State Underground Water Source Protection.
66.436 | Surveys, Studies, Investigations, Demonstrations, and Training Grants and Cooperative Agreements—Section 104(b)(3) of the Clean Water Act.
66.437 | Long Island Sound Program.
66.439 | Targeted Watershed Initiative.
66.454* | Water Quality Management Planning.
66.456* | National Estuary Program.
66.458 | Capitalization Grants for Clean Water State Revolving Funds.
66.460* | Nonpoint Source Implementation Grants.
66.461* | Wetland Program Development Grants.
66.463* | Water Quality Cooperative Agreements.
66.466* | Chesapeake Bay Program.
66.467 | Wastewater Operator Training Grant Program (Technical Assistance).
66.468* | Capitalization Grants for Drinking Water State Revolving Funds.
66.469 | Great Lakes Program.
66.471* | State Grants to Reimburse Operators of Small Water Systems for Training and Certification Costs.
66.472* | Beach Monitoring and Notification Program Implementation Grants.
66.475 | Gulf of Mexico Program.
66.476 | Vulnerability Assessments and Related Security Improvements at Large Drinking Water Utilities.
66.477 | Vulnerability Assessments and Related Security Improvements at Large Privately-Owned Community Drinking Water Utilities.
66.500 | Environmental Protection Consolidated Research.¹
66.509 | Science To Achieve Results (STAR) Program.¹
66.510 | Surveys, Studies, Investigations and Special Purpose Grants within the Office of Research and Development.¹
66.511 | Office of Research and Development Consolidated Research.¹
66.512 | Regional Environmental Monitoring Assessment Program.¹
66.515 | Greater Opportunities: Research Program.¹
66.516 | National Student Design Competition for Sustainability.¹
66.600* | Environmental Protection Consolidated Grants—Program Support.
66.604 | Environmental Justice Grants to Small Community Groups.
66.605 | Performance Partnership Grants.
66.606* | Surveys, Studies, Investigations and Special Purpose Grants.
66.609 | Protection of Children and the Aging as a Fundamental Goal of Public Health and Environmental Protection.
66.610 | Surveys, Studies, Investigations and Special Purpose Grants within the Office of the Administrator.
66.611 | Environmental Policy and Innovative Grants.
66.707 | TSCA Title IV State Lead Grants Certification of Lead-Based Paint Professionals.
66.708 | Pollution Prevention Grants Program.
66.709 | Capacity Building Grants and Cooperative Agreements for States and Tribes.
66.716 | Surveys, Studies, Investigations, Training Demonstrations and Educational Outreach.
66.717* | Source Reduction Assistance.
66.801* | Hazardous Waste Management State Program Support.
66.802* | Superfund State, Political Subdivision, and Indian Tribe Site Specific Cooperative Agreements.
66.804* | State and Tribal Underground Storage Tanks Program.
66.805* | Leaking Underground Storage Tank Trust Fund Program.
66.806 | Superfund Technical Assistance Grants (TAG) for Citizen Groups at Priority Sites.
66.808 | Solid Waste Management Assistance.
66.809 | Superfund State and Indian Tribe Core Program Cooperative Agreements.
66.810 | Chemical Emergency Preparedness and Prevention Technical Assistance Grants Program.
66.811 | Brownfield Pilots Cooperative Agreements.
66.813 | Alternative or Innovative Treatment Technology Research, Demonstration, Training, and Hazardous Substance Research Grants.
66.814 | Brownfields Training, Research, and Technical Assistance Grants and Cooperative Agreements.
66.816 | Headquarter and Regional Underground Storage Tanks Program.
66.817 | State and Tribal Response Program Grants.
66.818 | Brownfields Assessment and Cleanup Cooperative Agreements.
66.931 | International Financial Assistance Projects Sponsored by the Office of International Affairs.
Direct Development Activity Title
(N/A)* | Real property acquisition or disposition, including obtaining major leases or easements.
(N/A)* | Construction of new EPA facilities.
(N/A)* | EPA issued plans and permits which do not impact interstate areas.
¹ Selection is limited to proposals administered by the Office of Research and Development which (a) require an Environmental Impact Statement (EIS); or (b) do not require an EIS but will be newly initiated at a particular site and require unusual measures to limit the possibility of adverse exposure or hazard to the general public; or (c) have a unique geographic focus and are directly relevant to the governmental responsibilities of a State or local government within that geographic area. Otherwise, national research programs are exempt from review.

Authority: E.O. 12372, 47 FR 30959, 3 CFR, 1982 Comp., p. 197; 40 CFR part 29.

Sherry A. Kaschak,
Acting Assistant Administrator, Office of Administration and Resources Management.

[FR Doc. 04-9721 Filed 4-28-04; 8:45 am]

BILLING CODE 6560-50-P